LEGAL SERVICES CORPORATION

Notice of Funds Availability for Calendar Year 2017 Grant Awards

AGENCY: Legal Services Corporation.

ACTION: Solicitation for proposals for the provision of civil legal services.

SUMMARY: The Legal Services Corporation (LSC) is the national organization charged with administering Federal funds provided for civil legal services to low-income people.

LSC hereby announces the availability of funds for calendar year 2017 and is soliciting grant proposals from interested parties who are qualified to provide effective, efficient, and high quality civil legal services to eligible clients in the service area(s) of the states and territories identified below. The exact amount of congressionally appropriated funds and the date, terms, and conditions of their availability for calendar year 2017 have not been determined.

DATES: See SUPPLEMENTARY INFORMATION section for grant application dates.

ADDRESSES: Legal Services Corporation—Notice of Funds Availability, 3333 K Street NW., Third Floor, Washington, DC 20007-3522.

FOR FURTHER INFORMATION CONTACT: The Office of Program Performance by email at lscgrants@lsc.gov, or visit the LSC Web site at http://www.lsc.gov/grants-grantee-resources/our-grant-programs/basic-field-grant/lsc-service-areas.

SUPPLEMENTARY INFORMATION: Applicants must file a Notice of Intent to Compete (NIC) to participate in the LSC grants process. Applicants must file the NIC by May 6, 2016, 5:00 p.m. E.D.T. The Request for Proposals (RFP), which contains the NIC and grant application guidelines, proposal content requirements, service area descriptions, and specific selection criteria, will be available the week of April 11, 2016. The RFP may be accessed at http://www.lsc.gov/grants-grantee-resources/our-grant-programs/basic-field-grant. Other key application and filing dates, including the dates for filing grant applications, are published at http://www.lsc.gov/grants-grantee-resources/our-grant-programs/basic-field-grant/basic-field-grant-key-dates.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

Below are the service areas for which LSC is requesting grant proposals. Service area descriptions are available at http://www.grants.lsc.gov/grants-grantee-resources/our-grant-programs/basic-field-grant/lsc-service-areas. LSC will post all updates and/or changes to this notice at http://www.lsc.gov/grants-grantee-resources/our-grant-programs/basic-field-grant. Interested parties are asked to visit http://www.lsc.gov/grants-grantee-resources/our-grant-programs/basic-field-grant regularly for updates on the LSC grants process.

State or territory | Service area(s)
Arkansas | AR-6, AR-7
Arizona | AZ-3, AZ-5, MAZ, NAZ-6
American Samoa | AS-1
California | CA-1, CA-27, CA-28, NCA-1
District of Columbia | DC-1
Guam | GU-1
Illinois | IL-3, IL-7
Kentucky | KY-10, KY-2, KY-9
Louisiana | LA-11, LA-13
Massachusetts | MA-10, MA-11, MA-4
Michigan | MI-12, MI-15, MI-9, MMI, NMI-1
Minnesota | MN-1, MN-4, MN-5, MN-6, MMN
Mississippi | MS-9, MS-10, NMS-1
Missouri | MO-4, MO-5, MO-7
North Dakota | ND-3, MND, NND-3
New Hampshire | NH-1
New Jersey | NJ-8
New Mexico | NM-5, MNM, NNM-4
New York | NY-9
Ohio | OH-18, OH-20, OH-21, OH-23, MOH
Oklahoma | NOK-1
Pennsylvania | PA-11, PA-24
Puerto Rico | PR-2
South Dakota | SD-2, SD-4, NSD-1
Tennessee | TN-10, TN-4, TN-7, TN-9
Texas | TX-13, TX-14, TX-15, MSX-2, NTX-1
Virginia | VA-17, VA-19, VA-20
Wisconsin | WI-5, MWI
West Virginia | WV-5
Wyoming | WY-4, NWY-1

Dated: March 21, 2016.
Stefanie K. Davis,
Assistant General Counsel.

[FR Doc. 2016-06712 Filed 3-23-16; 8:45 am]

BILLING CODE 7050-01-P